DEPARTMENT OF THE INTERIOR

Bureau of Land Management

[CO-05-840-1610-241A]

Canyons of the Ancients National Monument Advisory Committee; Call for Nominations

AGENCY: Bureau of Land Management, Interior.

ACTION: Call for nominations for the Canyons of the Ancients National Monument Advisory Committee, to replace two categories.

SUMMARY: BLM is publishing this notice under section 9(a)(2) of the Federal Advisory Committee Act. The notice requests the public to submit nominations for membership on the Committee. The Committee is necessary to advise the Secretary and BLM on resource management issues associated with Canyons of the Ancients National Monument.

DATES: Submit a completed nomination form and nomination letters to the address listed below no later than 30 days after date of publication of this notice in the Federal Register.

ADDRESSES: Send nominations to: Manager, Canyons of the Ancients National Monument, Bureau of Land Management, 27501 Highway 184, Dolores, Colorado 81323.

FOR FURTHER INFORMATION CONTACT: LouAnn Jacobson, Monument Manager or Stephen Kandell, Monument Planner at (970) 882-5600, or e-mail Colorado_CANM@co.blm.gov. The existing Monument Web site is currently unavailable.

SUPPLEMENTARY INFORMATION: Any individual or organization may nominate one or more persons to serve on the Canyons of the Ancients National Monument Advisory Committee. Individuals may nominate themselves for Committee membership. You may obtain nomination forms from the Canyons of the Ancients National Monument Manager, Bureau of Land Management (see FOR FURTHER INFORMATION CONTACT above). To make a nomination, you must submit a completed nomination form, letters of reference from the represented interests or organizations, as well as any other information that speaks to the nominee's qualifications, to the Canyons of the Ancients National Monument Manager. You may make nominations for the following categories of interest:

• A representative of the Dolores County Commission (appointed from nominees submitted by the Dolores County Commission); and

• Persons representing any of the following tribes and pueblos representing Native American interests: The Ute Mountain Tribe, The Uintah-Ouray Ute Tribe, The Southern Ute Tribe, The Navajo Nation, The Hopi Tribe, The Pueblo of Acoma, The Pueblo of Cochiti, The Pueblo of Isleta, The Pueblo of San Felipe, The Pueblo of Santa Ana, The Pueblo of Santo Domingo, The Pueblo of Jemez, The Pueblo of Laguna, The Pueblo of Sandia, The Pueblo of Zia, The Pueblo of Zuni, The Pueblo of Nambe, The Pueblo of San Juan, The Pueblo of Picuris, The Pueblo of Pojoaque, The Pueblo of San Ildefonso, The Pueblo of Santa Clara, The Pueblo of Taos, The Pueblo of Tesuque (appointed from nominees submitted by the Bureau of Land Management).

The specific category the nominee would like to represent should be identified in the letter of nomination and in the nomination form. The Canyons of the Ancients National Monument Manager will collect the nominations and letters of reference and then forward them to the Secretary of the Interior who has final authority for making the appointments.

The purpose of the Canyons of the Ancients National Monument Advisory Committee is to advise the Bureau of Land Management concerning development and implementation of a management plan for public lands within Canyons of the Ancients National Monument. Each member will be a person who, as a result of training and experience, has knowledge or special expertise which qualifies him or her to provide advice from among the categories of interest listed above.

Members will serve without monetary compensation, but will be reimbursed for travel and per diem expenses at current rates for Government employees. The membership term will be for four years.

Dated: September 1, 2005.
LouAnn Jacobson,
Monument Manager, Canyons of the Ancients National Monument.

[FR Doc. 05-17774 Filed 9-7-05; 8:45 am]

BILLING CODE 4310-AG-P